ENVIRONMENTAL PROTECTION AGENCY

[FRL-6967-1]

National Drinking Water Advisory Council Notice of Open Meeting

AGENCY: Environmental Protection Agency (EPA).

ACTION: Notice.

SUMMARY: Under section 10(a)(2) of Public Law 92-423, “The Federal Advisory Committee Act,” notice is hereby given that a meeting of the National Drinking Water Advisory Council established under the Safe Drinking Water Act, as amended (42 U.S.C. S3300f et seq.), will be held on May 16, 2001, from 9 a.m. until 5 p.m., May 17, from 9 a.m. until 3 p.m. at the Camino Real Hotel, 101 South El Paso St., El Paso, Texas. At this meeting the National Drinking Water Advisory Council will provide input on strategies concerning microbial contamination; make recommendations on the formation of a new subcommittee on infrastructure issues; hear presentations on EPA efforts concerning Clean Water Act and Safe Drinking Water Act program integration for source water protection; discuss implementation of new regulations; and receive updates on regulatory actions and the Research subcommittee.

The meeting is open to the public. The Council encourages the hearing of outside statements and will allocate one hour for this purpose. Oral statements will be limited to five minutes, and it is preferred that only one person present the statement. Any outside parties interested in presenting an oral statement should petition the Council by telephone at (202) 260-9194 before May 4, 2001.

Any person who wishes to file a written statement can do so before or after a Council meeting. Written statements received prior to the meeting will be distributed to all members of the Council before any final discussion or vote is completed. Any statements received after the meeting will become part of the permanent meeting file and will be forwarded to the Council members for their information.

Members of the public that would like to attend the meeting, present an oral statement, or submit a written statement, should contact Ms. Janet Pawlukiewicz, Designated Federal Officer, National Drinking Water Advisory Council, U.S. EPA, Office of Ground Water and Drinking Water (4601), 401 M Street SW., Washington, DC 20460. The telephone number is Area Code (202) 260-9194 or 260-5509 or E-Mail pawlukiewicz.janet@epa.gov.

Dated: April 10, 2001.
Janet Pawlukiewicz,
Acting Director, Office of Ground Water and Drinking Water.

[FR Doc. 01-9486 Filed 4-20-01; 8:45 am]

BILLING CODE 6560-50-P